DEPARTMENT OF THE INTERIOR

Bureau of Land Management

[MT-070-03-1990-EX]

Notice of Intent To Prepare a Supplemental EIS for Golden Sunlight Mine, Montana

AGENCY: Bureau of Land Management, Interior.

ACTION: Notice of intent to prepare a supplement to the 1998 Golden Sunlight Environmental Impact Statement (EIS).

SUMMARY: This document provides notice that the Bureau of Land Management (BLM) and the Montana Department of Environmental Quality (DEQ) intend to prepare a Supplement to the 1998 Golden Sunlight EIS. This process will incorporate a revised reclamation plan based on a Montana state court decision requiring partial pit backfill.

DATES: The BLM and DEQ are seeking comments from individuals, organizations, tribal governments, and Federal, State, and local agencies that are interested or may be affected by the proposed action. The scoping comment period will start with the publication of this notice. Comments will be accepted for 30 days following publication of this notice in the Federal Register.

ADDRESSES: Send written comments to Golden Sunlight Partial Pit Backfill Supplemental EIS, Butte Field Office, 106 North Parkmont, Butte, Montana 59701, or Montana DEQ, P.O. Box 200901, Helena, Montana 59620-0901.

FOR FURTHER INFORMATION CONTACT: David Williams, (406) 533-7655, BLM Butte Field Office, or Greg Hallsten, (406) 444-3276, Montana Department of Environmental Quality.

SUPPLEMENTARY INFORMATION: Golden Sunlight Mines, Inc. (GSM) mines and processes gold-bearing ore using facilities located on public and private lands located near Whitehall, Montana. GSM has conducted mining and mineral processing activities since 1975. GSM was permitted through an Environmental Assessment (EA) to proceed with a mine expansion in 1990. Legal action following approval of the mine expansion led to a 1998 EIS and Record of Decision by BLM and the Montana DEQ. Following legal action, a series of Montana District Court rulings ultimately resulted in a ruling requiring GSM to submit a partial pit backfill plan meeting the requirements of Montana law and the judgment of the Court. GSM submitted a revised partial pit backfill plan to the DEQ and BLM on December 2, 2002. The plan submittal is a revised reclamation plan for the open pit. No modifications to the ongoing mining operations are proposed under this submittal; all mining activities are continuing under the approved operating plan. The Supplemental EIS (SEIS) is intended to evaluate the proposed partial pit backfill proposal.

While public participation is welcome at any time, comments received within 30 days of the publication of this notice will be especially useful in the preparation of the SEIS. To assist the BLM in identifying and considering issues and concerns on the proposed action, comments on the proposed SEIS should be as specific as possible. Reviewers may wish to refer to the Council on Environmental Quality Regulations for implementing the procedural provisions of the National Environmental Policy Act at 40 CFR 1503.3 in addressing these points.

Comments, including names and addresses of respondents, may be published as part of the SEIS. Individual respondents may request confidentiality; if you wish to withhold your name or street address from public review or from disclosure under the Freedom of Information Act, you must state this prominently at the beginning of your written comment. Such requests will be honored to the extent allowed by law. All submissions from organizations and businesses, and from individuals identifying themselves as representatives or officials of organizations or businesses, will be available for public inspection in their entirety.

Dated: February 28, 2003.
Richard M. Hotaling,
Field Manager.

[FR Doc. 03-11249 Filed 5-5-03; 8:45 am]

BILLING CODE 4310-$$-P